DEPARTMENT OF HEALTH AND HUMAN SERVICES

Centers for Medicare & Medicaid Services

Privacy Act of 1974; Report of an Altered CMS System of Records Notice

AGENCY: Centers for Medicare & Medicaid Services (CMS), Department of Health and Human Services (HHS).

ACTION: Altered System of Records Notice (SORN).

SUMMARY: In accordance with the requirements of the Privacy Act of 1974 (5 USC 552a), CMS proposes the following alterations to existing system of records (SOR) number 09-70-0560 “Health Insurance Exchanges (HIX) Program,” published at 78 Federal Register (FR) 8538 (February 6, 2013):

1. Add “Relevant Individual(s)” as a new category of individuals;

2. Add personally identifiable information (PII) pertaining to “Relevant Individual(s)” as a new category of records;

3. Add new purposes to describe the reason for the above additions; and

4. Revise existing routine uses to authorize the agency to disclose PII of “Relevant Individual(s)” to parties outside the agency.

DATES: Effective Dates: Effective 30 days after publication of this notice in the Federal Register unless comments received on or before that date result in revisions to this notice.

ADDRESSES: The public should send comments to: CMS Privacy Officer, Division of Privacy Policy, Privacy Policy and Compliance Group, Office of E-Health Standards & Services, Offices of Enterprise Management, CMS, Room S2-24-25, 7500 Security Boulevard, Baltimore, Maryland 21244-1850. Comments received will be available for review at this location, by appointment, during regular business hours, Monday through Friday from 9:00 a.m.-3:00 p.m., Eastern Time zone.

FOR FURTHER INFORMATION CONTACT: Karen Mandelbaum, JD, MHA, Office of Health Insurance Exchanges, Consumer Information and Insurance Systems Group, Center for Consumer Information and Insurance Oversight, 7210 Ambassador Road, Baltimore, MD 21244, Office Phone: (410) 786-1762, Facsimile: (301) 492-4353, Email: karen.mandelbaum@cms.hhs.gov.

SUPPLEMENTARY INFORMATION: CMS proposes to alter the SOR to add “Relevant Individual(s)” as a category of individuals whose PII is necessary for determining the eligibility of applicants for insurance affordability programs or a certification of exemption under provisions of the Patient Protection and Affordable Care Act (Pub. L. 111-148), as amended by the Health Care and Education Reconciliation Act of 2010 (Pub. L. 111-152) (collectively referred to as the Affordable Care Act) and CMS' implementation of the Affordable Care Act.

For the purpose of this SORN, “Relevant Individual(s)” means any individual listed on an application for an insurance affordability program or certification of exemption whose PII may bear upon the eligibility of an individual for an insurance affordability program (as defined in 42 CFR 435.4 and 45 CFR 155.20),¹ or certification of exemption. These individuals include non-applicant household members/family members, certain non-applicant tax payers or tax filers, and spouses and parents of applicants. Due to the potential impact of the Relevant Individuals' PII on an individual's eligibility determination this category of individuals is added to the SOR.

¹ See also 78 FR 8539, 8540.

Additionally, Routine Use #3 is proposed to be modified to permit CMS to disclose information about Relevant Individual(s), in addition to applicants, in order to obtain information from other Federal and State agencies and third party data sources that provide information to CMS, pursuant to agreements with CMS, for purposes of determining eligibility of applicants to enroll in qualified health plans (QHP) through an Exchange, in insurance affordability programs, or for a certification of exemption from the individual responsibility requirement. Routine Use #8 is proposed to be modified to enable CMS to provide information about Relevant Individual(s), in addition to applicants, to application filers who are filing on behalf of those applicants for whom an eligibility determination will require information about the Relevant Individual(s).

The proposed changes require the following alterations to sections of the notice.

1. Categories of Individuals Covered by the System: Remove the “and” before “(7)” and add the following at the end of this section:

“and (8) Individuals, including non-applicant household members/family members, non-applicant tax payers or tax filers, and spouses and parents of applicants, who are listed on the application and whose PII may bear upon a determination of the eligibility of an individual for an insurance affordability program and for certifications of exemption from the individual responsibility requirement. Such individuals will hereafter be referred to as “Relevant Individual(s)”.”

2. Categories of Records in the System: Add the following to the end of the first paragraph of this section:

“The system will collect and maintain information pertaining to Relevant Individual(s) that includes the following: First name, last name, middle initial, permanent residential address, date of birth, SSN (if the Relevant Individual has one or is required to provide it as specified in 45 CFR 155.305(f)(6)), taxpayer status, gender, residency, relationship to applicant, employer information, and household income, including tax information from the IRS, income information from the Social Security Administration, and financial information from other third party sources.”

3. Purpose(s) of the System: Replace the first sentence of the first paragraph of this section with the following sentence:

“The purpose of this system is to collect, create, use and disclose PII about individuals who apply for eligibility determinations for enrollment in a QHP through the Exchange, for insurance affordability programs, and for certifications of exemption from the individual responsibility requirement and on Relevant Individual(s) whose PII may bear upon a determination of the eligibility of an individual for an insurance affordability program and for certifications of exemption from the individual responsibility requirement.”

4. Routine Use #3: Delete entry and replace with:

“To disclose information about applicants and Relevant Individual(s) in order to obtain information from other Federal agencies and State agencies and third party data sources that provide information to CMS, pursuant to agreements with CMS, for purposes of determining the eligibility of applicants to enroll in QHPs through an Exchange, in insurance affordability programs, or for a certification of exemption from the individual responsibility requirement.”

5. Routine Use #8: Delete entry and replace with:

“To provide information about applicants and Relevant Individual(s) to applicants/enrollees, authorized representatives of applicants/enrollees, and application filers, who are filing on behalf of those applicants, when relevant and necessary to determine eligibility for enrollment in a QHP through an Exchange, insurance affordability programs, or a certification of exemption from the individual responsibility requirement.”

The information collected by this system and the purposes for which it is used and disclosed by CMS are described in the modifications to the SORN as stated above.

Michelle Snyder,
Deputy Chief Operating Officer, Centers for Medicare & Medicaid Services.

[FR Doc. 2013-12691 Filed 5-28-13; 8:45 am]

BILLING CODE 4120-03-P